ENVIRONMENTAL PROTECTION AGENCY

[FRL-7938-7]

Casmalia Disposal Site; Notice of Proposed CERCLA Administrative de minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), the EPA is hereby providing notice of a proposed administrative de minimis settlement concerning the Casmalia Disposal Site in Santa Barbara County, California (the Casmalia Disposal Site). Section 122(g) of CERCLA provides EPA with the authority to enter into administrative de minimis settlements. This settlement is intended to resolve the liabilities of 26 settling parties for the Casmalia Disposal Site under sections 106 and 107 of CERCLA and section 7003 of RCRA. These parties are identified below. For most of the parties, the settlement will also resolve the Casmalia Disposal Site-related liability for response costs incurred or to be incurred, and potential natural resource damage claims, by the United States Fish and Wildlife Service, the National Oceanic and Atmospheric Administration, and the United States Air Force. The settling parties sent a combined total of 16,732,348 lbs. of waste to the Site and will pay a combined total of $1,860,343 million to EPA, $386 to the U.S. Air Force, $983 to the U.S. Fish & Wildlife Service, and $83 to the National Oceanic and Atmospheric Administration. These parties had received settlement offers from EPA in 1999 or 2000 but raised questions regarding their settlement which have since been resolved. EPA is simultaneously publishing another Federal Register notice relating to another settlement with de minimis parties that received settlement offers in April 2005.

Settling Parties: The parties to this settlement are: A.O. Smith Corporation, Angelus Block Company, Chase Bros Dairy, City of Huntington Beach, City of Lompoc, City of Newport Beach, City of Santa Monica, City of Signal Hill, Crenshaw Christian Church of Los Angeles, Emery Air Freight, Kaiser Foundation Health Plan, Luxfer Inc., MAFCO/Pneumo Abex, Martinez Shopping Center, Maywood Village Square L.P, Pacific Racing Association/Golden Gate Fields, Pasadena Center Operating Company, Phil Wood, Inc., Philip Morris Industrial, Quintec Manufacturing, Saddleback Valley Unified School District, Sares Regis, Temple Inland, The Coca Cola Company, Walter Buell Trust, and World Oil Company.

DATES: EPA will receive written comments relating to the settlement until August 26, 2005. The EPA will consider all comments it receives during this period, and may modify or withdraw its consent to the settlement if any comments disclose facts or considerations indicating that the settlement is inappropriate, improper, or inadequate.

Public Meeting: In accordance with section 7003(d) of RCRA, the EPA has scheduled a public meeting in the affected area to discuss this settlement. Information about the date and time of the meeting will be published in the local newspaper, The Santa Maria Times, and will be sent to persons on the EPA's Casmalia Site mailing list. To be added to the mailing list, please contact David Cooper at (415) 972-3237 or by e-mail at cooper.david@epa.gov. The information on the public meeting will also be available by calling (415) 369-0559.

ADDRESSES: Written comments should be addressed to Karen Goldberg, U.S. Environmental Protection Agency Region IX, 75 Hawthorne Street (mail code RC-3), San Francisco, California 94105-3901, or may be faxed to her at (415) 947-3570 or sent by e-mail to goldberg.karen@epa.gov.

FOR FURTHER INFORMATION CONTACT: Additional information about the Casmalia Disposal Site and about the proposed settlement may be obtained on the Casmalia Web site at: http://yosemite.epa.gov/r9/sfund/overview.nsf or by calling Karen Goldberg at (415) 972-3951 or sending her an e-mail at goldberg.karen@epa.gov.

Dated: July 8, 2005.
Elizabeth J. Adams,
Acting Director, Superfund Division, U.S. EPA Region IX.

[FR Doc. 05-13989 Filed 7-14-05; 8:45 am]

BILLING CODE 6560-50-P